DEPARTMENT OF LABOR

Employment and Training Administration

[TA-W-70,460]

Delphi Steering Including On-Site Leased Workers From ACRO Service Corporation, et al.; Amended Certification Regarding Eligibility To Apply for Worker Adjustment Assistance

In accordance with Section 223 of the Trade Act of 1974, as amended (“Act”), 19 U.S.C. 2273, the Department of Labor issued a Certification of Eligibility to Apply for Worker Adjustment Assistance on July 14, 2009, applicable to workers of Delphi Steering, including on-site leased workers from Bartech and Securitas, Saginaw, Michigan. The notice was published in the Federal Register on September 2, 2009 (74 FR 45477). The notice was amended on October 7, 2009 to include on-site leased workers. The notice was published in the Federal Register on October 20, 2009 (74 FR 53760-53761).

At the request of the State Agency, the Department reviewed the certification for workers of the subject firm. The workers are engaged in the production of steering systems and components such as steering columns, gears, pumps and electronic power steering systems.

The company reports that on-site leased workers from Interim Health Care were employed on-site at the Saginaw, Michigan location of Delphi Steering. The Department has determined that these workers were sufficiently under the control of the subject firm to be considered leased workers.

Based on these findings, the Department is amending this certification to include workers leased from Interim Health Care working on-site at the Saginaw, Michigan location of Delphi Steering.

The amended notice applicable to TA-W-70,460 is hereby issued as follows:

All workers of Delphi Steering, including on-site leased workers from Bartech, Securitas, Acro Service Corp., Aerotek, Inc., Continental, Inc., Dynamic Corp., G-Tech Professional Staffing, Inc., GlobalEdge Technologies, Inc. (formerly CAE Tech), Gonzalez Contract Services, Integrated Partners Group LLC, Kelly Services, Manpower, Inc., Rapid Global Business Solutions, Inc., TAC Worldwide, Trialon Corp., Trison Business Solutions, Wright K. Technologies and Interim Health Care, Saginaw, Michigan, who became totally or partially separated from employment on or after May 20, 2008, through July 14, 2011, and all workers in the group threatened with total or partial separation from employment on date of certification through two years from the date of certification, are eligible to apply for adjustment assistance under Chapter 2 of Title II of the Trade Act of 1974, as amended.

Signed in Washington, DC, this 10th day of November 2009.
Elliott S. Kushner,
Certifying Officer, Division of Trade Adjustment Assistance.

[FR Doc. E9-29150 Filed 12-7-09; 8:45 am]

BILLING CODE 4510-FN-P